DEPARTMENT OF TRANSPORTATION

Federal Railroad Administration

[Docket No. FRA-2017-0002-N-5]

Proposed Agency Information Collection Activities; Comment Request

AGENCY: Federal Railroad Administration, U.S. Department of Transportation.

ACTION: Notice of information collection; request for comment.

SUMMARY: Under the Paperwork Reduction Act of 1995 (PRA) and its implementing regulations, the Federal Railroad Administration (FRA) seeks to renew the existing information collection abstracted below. FRA is soliciting public comment on the activities identified below before submitting this collection to the Office of Management and Budget (OMB) for approval.

DATES: Interested persons are invited to submit comments on or before August 31, 2018.

ADDRESSES: Submit written comments on the information collection activities by mail to either: Mr. Michael E. Jones, Information Collection Officer, Office of Railroad Policy & Development, Human Factors Division, RPD-34, Federal Railroad Administration, 1200 New Jersey Avenue SE, Room W38-119, Washington, DC 20590; or Ms. Kim Toone, Information Collection Clearance Officer, Office of Information Technology, RAD-20, Federal Railroad Administration, 1200 New Jersey Avenue SE, Room W34-212, Washington, DC 20590. Commenters requesting FRA to acknowledge receipt of their respective comments must include a self-addressed stamped postcard stating, “Comments on OMB Control Number 2130-0615,” and should also include the title of the information collection. Alternatively, comments may be faxed to (202) 493-6333 or (202) 493-6497, or emailed to Mr. Jones at Michael.E.Jones@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Michael E. Jones, Information Collection Officer, Office of Railroad Policy & Development, Human Factors Division, RPD-34, Federal Railroad Administration, 1200 New Jersey Avenue SE, Room W38-119, Washington, DC 20590 (telephone: (202) 493-6106), or Ms. Kim Toone, Information Collection Clearance Officer, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, Title 5 of the Code of Federal Regulations (CFR) part 1320, require Federal agencies to provide 60-days notice to the public to allow comment on information collection activities before seeking OMB approval of the activities. See 44 U.S.C. 3506, 3507; 5 CFR 1320.8-12. FRA invites interested parties to comment on the following information collection regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. FRA reasons that comments received will advance three objectives: (1) Reducing reporting burdens; (2) organizing information collection requirements in a “user-friendly” format to improve the use of such information; and (3) accurately assessing the resources expended to retrieve and produce information requested. See 44 U.S.C. 3501.

The summary below describes the information collection that FRA will submit to OMB for renewal as the PRA requires:

Title: Grant Management Requirements for Federal Railroad Administration Grant Awards and Cooperative Agreements (“Awards”).

OMB Control Number: 2130-0615.

Abstract: FRA is an Operating Administration of the U.S. Department of Transportation (DOT). FRA solicits grant applications for projects including, but not limited to, preconstruction planning activities, safety improvements, congestion relief, improvement of grade crossings, rail line relocation, as well as projects that encourage development, expansion, and upgrades to passenger and freight rail infrastructure and services. FRA funds projects that meet FRA and government-wide evaluation standards and align with the DOT Strategic Plan.

FRA administers award agreements for both construction and non-construction projects that will result in benefits or other tangible improvements in rail corridors, service, safety, and technology. These projects include completion of preliminary engineering, environmental, research and development, final design, and construction.

FRA requires systematic and uniform collection and submission of information, as approved by OMB, to ensure accountability of Federal assistance provided by FRA. Through this information collection, FRA will measure Federal award recipients' performance and results, including expenditures in support of agreed-upon activities and allowable costs outlined in a FRA Notice of Grant Award (NGA). This information collection includes OMB-required reports and documentation, as well as additional forms and submissions to compile evidence relevant to addressing FRA's important policy challenges, promoting cost-effectiveness in FRA programs, and providing effective oversight of programmatic and financial performance.

FRA issues and manages awards in compliance with 2 CFR part 200: Uniform Administrative Requirements, Cost Principles, and Audit Requirements for Federal Awards. The forms for which FRA is seeking renewal of its current approval in this information collection are listed below. All non-research awards are subject to the application, reporting, closeout, and other processes described in this justification.

Form(s): All FRA forms may be located at FRA's public website; all SF forms may be located at Grants.gov. FRA forms 30 (FRA Assurances and Certifications Regarding Lobbying; Debarment, Suspension and Other Responsibility Matters and Drug-Free Workplace Requirements), 31 (Grant Adjustment Request Form), 32 (Service Outcome Agreement Annual Reporting), 33 (Final Performance Report), 34 (Quarterly Progress Report), 35 (Application Form), 217 (Categorical Exclusion Worksheet), and 229 (NIST Manufacturing Extension Partnership Supplier Scouting—FRA—Item Opportunity Synopsis). SF forms 270 (Request for Advance or Reimbursement), 424 (Application for Federal Assistance), 424A (Budget Information for Non-Construction Programs), 424B (Assurances for Non-Construction Programs), 424C (Budget Information for Construction Programs), 424D (Assurances for Construction Programs), 425 (Federal Financial Report), and LLL (Disclosure of Lobbying Activities).

Respondent Universe: Generally includes State and local governments and railroads.

Frequency of Submission: On occasion.

Reporting Burden:

Burden Hours
| Form | Number of respondents | Hours | Frequency | Total burden hours
Application | FRA F 35 | 250 | 34.00 | 1.00 | 8,500.00
Application | SF 424 | 250 | 1.10 | 1.00 | 275.00
Application | SF 424A | 75 | 3.00 | 1.00 | 225.00
Application | SF 424B | 75 | 0.25 | 1.00 | 18.75
Application | SF 424C | 175 | 3.00 | 1.00 | 525.00
Application | SF 242D | 175 | 0.25 | 1.00 | 43.75
Application | SF LLL | 250 | 0.17 | 1.00 | 42.50
Application | FRA F 30 | 250 | 0.25 | 1.00 | 62.50
Subtotal |  |  | 42.02 |  | 9,692.50
Award & Maintenance | FRA F 229 | 64 | 311.71 | 1.00 | 19,949.44
Award & Maintenance | SF 270 | 860 | 1.00 | 1.00 | 860.00
Award & Maintenance | FRA F 34 | 341 | 2.00 | 4.00 | 2,728.00
Award & Maintenance | SF 425 | 341 | 1.50 | 4.00 | 2,046.00
Award & Maintenance | FRA F 31 | 212 | 1.00 | 1.00 | 212.00
Award & Maintenance | FRA F 32 | 24 | 1.00 | 1.00 | 24.00
Award & Maintenance | FRA F 217 | 50 | 156.00 | 1.00 | 7,800.00
Award & Maintenance | Environmental Impact Statement (EIS) | 2 | 15,552.00 | 1.00 | 31,104.00
Award & Maintenance | Environmental Assessment (EA) | 4 | 3,120.00 | 1.00 | 12,480.00
Subtotal |  |  | 19,146.21 |  | 77,203.44
Closeout | FRA F 33 | 79 | 8.00 | 1.00 | 632.00
Total |  | 3,477 |  |  | 174,423.88

Total Estimated Annual Responses: 3,477.

Total Estimated Annual Burden: 174,423.88.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Mathew Michael Sturges,
Deputy Administrator.

[FR Doc. 2018-14339 Filed 6-28-18; 4:15 pm]

BILLING CODE 4910-06-P